DEPARTMENT OF VETERANS AFFAIRS

Notice of Availability of the Final Programmatic Environmental Impact Statement of the Department of Veterans Affairs Housing Loan Program

AGENCY: Department of Veterans Affairs.

ACTION: Notice of availability.

SUMMARY: The Department of Veterans Affairs (VA) announces the availability of the Final Programmatic Environmental Impact Statement (PEIS) for VA's Housing Loan Program (HLP). The Final PEIS identifies, analyzes, and documents the potential physical, environmental, cultural, socioeconomic, and cumulative impacts of continued administration and operation of VA's HLP. The comprehensive HLP, which is managed by VA's Veterans Benefits Administration (VBA), administers VA-guaranteed housing loan benefits and other housing-related benefits that assist eligible Veterans, surviving spouses, active-duty personnel, Selected Reservists, and National Guardsmen (collectively referred to as Veterans) in purchasing, constructing, repairing, adapting, or improving a home. In preparing the Final PEIS, VA has considered public comments received on the Draft PEIS, which was published in July 2021.

DATES: VA will publish a Record of Decision no sooner than 30 days after publication of the U.S. Environmental Protection Agency's Notice of Availability for this Final PEIS in the Federal Register.

ADDRESSES: The Final PEIS is available at the VA website at the following link: https://www.benefits.va.gov/homeloans/environmental_impact.asp. Printed copies of the document may be obtained by contacting VA at VAHLPNEPA.VBAVACO@va.gov.

FOR FURTHER INFORMATION CONTACT: Erin Byrum, Lead Management Analyst, Loan Guaranty Service, Veterans Benefit Administration, Department of Veterans Affairs, 810 Vermont Avenue NW, Washington, DC 20420, 202-632-8862 (this is not a toll-free number) or VAHLPNEPA.VBAVACO@va.gov.

SUPPLEMENTARY INFORMATION: The Final PEIS was developed pursuant to the National Environmental Policy Act (NEPA) of 1969, as amended (42 U.S.C. 4321, et seq.), the Council on Environmental Quality's regulations for implementing the procedural provisions of NEPA (40 CFR 1500-1508), and VA's NEPA regulations titled “Environmental Effects of the Department of Veterans Affairs Actions” (38 CFR 26).

The most significant element of the HLP is the provision of housing benefits that assist eligible Veterans in financing the purchase, construction, repair, or improvement of a home for their personal occupancy. See 38 U.S.C. 3701 et seq. VBA provides Federal assistance in the form of loans made, insured, or guaranteed by VA. VBA is also responsible for the management, marketing, and disposition of real estate-owned properties that VA acquires following the foreclosure of certain VA-guaranteed loans and loans held in VA's portfolio. Under the HLP, VA also provides direct loans to Native American Veterans to purchase homes on trust, tribal, or communally owned lands, and the HLP extends grants for home adaptations to Veterans with service-connected disabilities through the Specially Adapted Housing program. The HLP provides what can be, for some Veterans, their sole opportunity to obtain crucial housing loans and grants.

Through the PEIS, VA evaluated the potential physical, environmental, cultural, socioeconomic, and cumulative effects of the HLP to assist and inform future agency planning and decision making related to the HLP. Environmental topics addressed in the Final PEIS include the following: aesthetics; air quality; biological resources; cultural resources; floodplains, wetlands, and coastal zones: geology and soils; hydrology and water quality; infrastructure and community services; land use and planning; noise; and socioeconomics and environmental justice. The PEIS also identifies and analyzes potential cumulative impacts, which are the potential incremental impacts on the environment resulting from continued administration and operation of the HLP in combination with other past, present, and reasonably foreseeable future actions from other relevant Federal and non-Federal programs.

The PEIS is atypical in that it addresses an existing program, and VA has no specific or immediate need to change its operational structure or procedures to address environmental impacts. Furthermore, the making of loan guaranties, direct loans, and grants do not typically result in direct environmental impacts. In this case, the primary environmental impacts of concern for VA would be the potential indirect impacts from homeowner actions and the potentially significant, cumulative impacts of small incremental actions on local and regional resources.

The Final PEIS considers comments made on the Draft PEIS that officially began on July 16, 2021 and ended on August 30, 2021. Based on the information provided in the Final PEIS, VA has identified the continued operation and active management of the HLP as the preferred alternative.

Signing Authority

Denis McDonough, Secretary of Veterans Affairs, approved this document on June 6, 2022, and authorized the undersigned to sign and submit the document to the Office of the Federal Register for publication electronically as an official document of the Department of Veterans Affairs.

Jeffrey M. Martin,
Assistant Director, Office of Regulation Policy & Management, Office of General Counsel, Department of Veterans Affairs.

[FR Doc. 2022-15824 Filed 7-22-22; 8:45 am]

BILLING CODE 8320-01-P